DEPARTMENT OF COMMERCE

National Oceanic and Atmospheric Administration

Notice of Availability or Record of Decision and Final Findings of Approvability to the Washington Coastal Zone Management Program

AGENCY: Department of Commerce, National Oceanic and Atmospheric Administration (NOAA), Office of Ocean and Coastal Resource Management.

ACTION: Notice of Availability or Record of Decision and Final Findings of Approvability to the Washington Coastal Zone Management Program.

SUMMARY: NOAA's Office of Ocean and Coastal Resource Management (OCRM) announces availability of the Record of Decision (ROD) and Final Findings of Approvability (Findings) for OCRM's Approval of Amendments to the Washington Coastal Zone Management Program (WCZMP) final Environmental Impact Statement (EIS). On October 6, 2004, OCRM received the State of Washington's request to incorporate the State's new Shoreline Master Program Guidelines (Guidelines), Chapter 173-26 of the Washington Administrative Code (WAC) as an amendment to the WCZMP. The new Guidelines replace the previously repealed Chapter 173-16 of the WAC, the Shoreline Management Act Guidelines for Development of Shoreline Master Programs. The final EIS was released to the public for a 45-day comment period after the publication of a Notice of Availability in the Federal Register on November 12, 2010 (75 FR 69434). The ROD documents the selection of Alternative 1 (the NOAA preferred alternative) in the final EIS. The Findings make a final determination that the WCZMP, as amended by the October 6, 2004 WCZMP Amendment Document, still constitutes an approvable program and that procedural requirements of the Coastal Zone Management Act (CZMA) and its implementing regulations have been met. The ROD and Findings were signed by the Assistant Administrator, National Ocean Service (NOS) on May 16, 2011. Federal consistency applies to the revised WCZMP enforceable policies as of May 16, 2011.

ADDRESSES: A copy of the ROD and the Findings may be obtained from Helen Farr, Environmental Protection Specialist, National Oceanic and Atmospheric Administration, OCRM/CPD, Station 02-101, 55 Blackburn Drive, Gloucester, MA 01930, or Helen.Farr@noaa.gov, (978) 675-2170 (telephone), (978) 281-9301 (Fax). The documents are also available on OCRM's Web site at http://coastalmanagement.noaa.gov/assessments/welcome.html.

FOR FURTHER INFORMATION CONTACT: Bill O'Beirne, Pacific Regional Team Leader, National Oceanic and Atmospheric Administration, OCRM/CPD, N/ORM3, 1305 East-West Highway, Silver Spring, MD 20910, or Bill.O'Beirne@noaa.gov, (301) 713-3155, extension 160 (telephone), 301-713-4367 (Fax).

SUPPLEMENTARY INFORMATION: The following is a summary of the ROD and the Findings. On October 6, 2004, Washington formally submitted to NOAA a request to amend the WCZMP.

The amendment included the above-referenced Guidelines, which replaced the State's previously repealed Guidelines. The ROD selects final EIS Alternative 1, Approve Washington's Request for Amendment of the WCZMP. OCRM arrived at this decision while taking environmental, economic and agency statutory mission considerations into account, as discussed in greater detail in the ROD. The Findings provide an analysis of how the WCZMP, as amended, meets the requirements of the CZMA at 15 CFR part 923, including uses subject to management, special management areas, boundaries, authorities and organization, and coordination, public involvement, and national interest.

The following factors weighed most heavily in OCRM's decision: (1) Continued WCZMP approvability as amended by the proposed program change; and (2) impacts to the coastal resources and communities associated with the continued existence of the WCZMP. OCRM approved the WCZMP amendment because OCRM believes Alternative 1 meets the program change requirements of the CZMA, and will be the best opportunity for continued comprehensive protection of Washington's coastal resources. OCRM did not select either Alternative 2 (Deny Washington's Amendments) or Alternative 3 (No Action) because the former could have resulted in repeal and termination of the WCZMP, and the latter would not have allowed for the best review of environmental concerns informed by public comment. Termination of the WCZMP would potentially lead to negative physical and socio-economic impacts to coastal resources associated with (1) Lack of application of Federal consistency requirements available only through participation in the national coastal zone management program; and (2) loss of federal funding for implementation of the WCZMP. The ROD did not identify any mitigation or monitoring measures since the final EIS found that many of the variables used to determine the effects were unforeseeable and based on decisions peripherally related to the Guidelines themselves.

(Federal Domestic Assistance Catalog 11.419 Coastal Zone Management Program Administration)

Dated: April 24, 2011.
David M. Kennedy,
Assistant Administrator, National Ocean Service, National Oceanic and Atmospheric Administration.

[FR Doc. 2011-13387 Filed 5-27-11; 8:45 am]

BILLING CODE 3510-08-P